DEPARTMENT OF TRANSPORTATION

National Highway Traffic Safety Administration

49 CFR Parts 571 and 574

[Docket No. NHTSA-04-17917]

RIN 2127-AJ36

Tire Safety Information; Correction

AGENCY: National Highway Traffic Safety Administration (NHTSA), Department of Transportation.

ACTION: Correcting amendments.

SUMMARY: On June 3, 2004, the National Highway Traffic Safety Administration (NHTSA) published a final rule; response to the petitions for reconsideration of a final rule on tire safety information published on November 18, 2002. We inadvertently omitted regulatory text related to several issues raised by petitioners. This document corrects these omissions.

DATES: Effective September 1, 2005.

FOR FURTHER INFORMATION CONTACT: Mr. George Feygin, Office of Chief Counsel (Telephone: 202-366-2992) (Fax: 202-366-3820), 400 7th, SW., Washington, DC 20590.

SUPPLEMENTARY INFORMATION: In response to a final rule on tire safety information published on November 18, 2002 (67 FR 69600), we received a request for an interpretation asking whether laser etching of the date code portion of the Tire Identification Number (TIN) is permitted.¹ Specifically, S5.5 of FMVSS No. 139 requires that each new pneumatic tire for light vehicles must be “marked” with the TIN in accordance with 49 CFR 574.5. In responding to this request, the agency issued a letter of interpretation indicating that 49 CFR 574.5 permitted laser etching of the date code portion of the TIN, as “long as it occurred in-line, i.e., as part of the manufacturing process of the tire.” We also indicated in that letter that in responding to petitions for reconsideration of the November 2002 tire safety information final rule, we would amend 49 CFR 574.5 to codify the interpretation.²

¹ See http://dmses.dot.gov/docimages/pdf86/245047_web.pdf.

² See http://www.nhtsa.dot.gov/cars/rules/interps/files/firestonelaser-2.html.

We inadvertently omitted the codifying amendment from the response to the petitions for reconsideration published on June 3, 2004. In order to avoid ambiguities associated with defining “in-line” or “part of the manufacturing process,” this correcting amendment includes a time limit within which the date code can be laser etched into the tire.

In addition to omitting the codifying amendment, we inadvertently omitted making certain changes to the regulatory text discussed in the preamble on page 31315.

Correcting the omission of the codifying amendment will not impose or relax any additional substantive requirements or burdens on manufacturers. Therefore, NHTSA finds for good cause that any notice and opportunity for comment on these correcting amendments are not necessary.

In FR Doc. 04-11963 published on June 3, 2004 (69 FR 31306), make the following corrections:

PART 571—[CORRECTED]

1. On page 31317, second column, amendatory instruction 2 is corrected as follows:

“2. Section 571.110 is amended by revising paragraph S4.2.2, S4.3, S4.3.4(c), adding paragraph S4.3.5, and revising Figures 1 and 2 at the end of § 571.110, to read as follows:”

§ 571.110 [CORRECTED]

2. On page 31317, in the second column, add paragraph S4.2.2 to read as follows:

“S4.2.2 The vehicle normal load on the tire shall not be greater than the test load used in the high speed performance test specified in S5.5 of § 571.109, or S7.4 of § 571.119, as appropriate, for that tire.”

* * * * *

3. On page 31317, in the third column, paragraph (d) is corrected as follows:

“(d) Tire size designation, indicated by the headings “size” or “original tire size” or “original size,” and “spare tire” or “spare,” for the tires installed at the time of the first purchase for purposes other than resale;”

4. On page 31318, in the first column, following the first paragraph, add paragraph S4.3.4(c) to read as follows:

“S4.3.4 (c) The tire load rating specified in a submission by an individual manufacturer, pursuant to S4.1.1(a) of § 571.139 or contained in one of the publications described in S4.1.1(b) of § 571.139, for the tire size at that inflation pressure is not less than the vehicle maximum load and the vehicle normal load on the tire for those vehicle loading conditions.”

* * * * *

PART 574—[CORRECTED]

5. On page 31320, third column, amendatory instruction 6 and the authority citation for part 574 are corrected as follows:

“6. The authority citation for Part 574 continues to read as follows: Authority: 49 U.S.C. 322, 30111, 30115, 30117, 30166; delegation of authority at CFR 1.50.”

§ 574.5 [Corrected]

6. On page 31320, third column, amendatory instruction 7 and the amendments to § 574.5 are revised to read as follows:

“7. Section 574.5 is amended by removing the first two sentences of the introductory text and adding four sentences in their place, and by revising paragraph (d) to read as follows:

§ 574.5 Tire identification requirements.

Each tire manufacturer shall conspicuously label on one sidewall of each tire it manufactures, except tires manufactured exclusively for mileage-contract purchasers, or non-pneumatic tires or non-pneumatic tire assemblies, by permanently molding into or onto the sidewall, in the manner and location specified in Figure 1, a tire identification number containing the information set forth in paragraphs (a) through (d) of this section. However, at the option of the manufacturer, the information contained in paragraph (d) of this section may, instead of being permanently molded, be laser etched into or onto the sidewall in the location specified in Figure 1, during the manufacturing process of the tire and not later than 24 hours after the tire is removed from the mold. Each tire retreader, except tire retreaders who retread tires solely for their own use, shall conspicuously label one sidewall of each tire it retreads by permanently molding or branding into or onto the sidewall, in the manner and location specified in Figure 2, a tire identification number containing the information set forth in paragraphs (a) through (d) of this section. However, at the option of the retreader, the information set forth in paragraph (d) of this section may, instead of being permanently molded or branded, be laser etched into or onto the sidewall in the location specified in Figure 2, during the retreading of the tire and not later than 24 hours after the application of the new tread. * * *

* * * * *

(d) Fourth grouping. The fourth grouping, consisting of four numerical symbols, must identify the week and year of manufacture. The first two symbols must identify the week of the year by using “01” for the first full calendar week in each year, “02” for the second full calendar week, and so on. The calendar week runs from Sunday through the following Saturday. The final week of each year may include not more than 6 days of the following year. The third and fourth symbols must identify the year. Example: 0101 means the 1st week of 2001, or the week beginning Sunday, January 7, 2001, and ending Saturday, January 13, 2001. The symbols signifying the date of manufacture shall immediately follow the optional descriptive code (paragraph (c) of this section). If no optional descriptive code is used, the symbols signifying the date of manufacture must be placed in the area shown in Figures 1 and 2 of this section for the optional descriptive code.”

* * * * *

Issued: August 13, 2004.
Stephen R. Kratzke,
Associate Administrator for Rulemaking.

[FR Doc. 04-18950 Filed 8-18-04; 8:45 am]

BILLING CODE 4910-59-P